DEPARTMENT OF JUSTICE

Notice of Lodging of Proposed Joint Stipulation under the Clean Water Act

On July 25, 2014, the Department of Justice lodged a proposed settlement with the United States District Court for the District of Alaska in the lawsuit entitled United States and Alaska v. BP (Exploration) Alaska, Inc., Civil Action No. 3:14-cv-00146.

The United States and State of Alaska filed this lawsuit under the Clean Water Act against BP (Exploration) Alaska, Inc. The complaint seeks civil penalties and injunctive relief for violations of the Clean Water Act, as amended by the Oil Pollution Act of 1990, 33 U.S.C. 2701 et seq., and Alaska Statutes 46.03.710 and 46.03.740. The settlement provides a covenant not to sue in return for defendant's payment of $450,000.

The publication of this notice opens a period for public comment on the settlement. Comments should be addressed to the Assistant Attorney General, Environment and Natural Resources Division, and should refer to United States and Alaska v. BP (Exploration) Alaska, Inc., D.J. Ref. No. 90-5-1-1-08808/1. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the settlement may be examined and downloaded at this Justice Department Web site: http://www.usdoj.gov/enrd/Consent_Decrees.html. We will provide a paper copy of the settlement upon written request and payment of reproduction costs. Please mail your request and payment to: Consent Decree Library, U.S. DOJ—ENRD, P.O. Box 7611, Washington, DC 20044-7611.

Please enclose a check or money order for $3 (25 cents per page reproduction cost) payable to the United States Treasury.

Susan Akers,
Assistant Section Chief, Environmental Enforcement Section, Environment and Natural Resources Division.

[FR Doc. 2014-17980 Filed 7-30-14; 8:45 am]

BILLING CODE 4410-15-P